DEPARTMENT OF THE INTERIOR

Minerals Management Service

Environmental Documents Prepared for Proposed Oil, Gas, and Mineral Operations by the Gulf of Mexico Outer Continental Shelf (OCS) Region

AGENCY: Minerals Management Service, Interior.

ACTION: Notice of the Availability of Environmental Documents; Prepared for OCS Mineral Proposals by the Gulf of Mexico OCS Region.

SUMMARY: Minerals Management Service (MMS), in accordance with Federal Regulations that implement the National Environmental Policy Act (NEPA), announces the availability of NEPA-related Site-Specific Environmental Assessments (SEA) and Findings of No Significant Impact (FONSI), prepared by MMS for the following oil-, gas-, and mineral-related activities proposed on the Gulf of Mexico and Atlantic OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration, development, production, and transport of oil, gas, and mineral resources on the Federal OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Maritech Resources, Inc., Structure Removal, SEA ES/SR 06-051A | Ship Shoal (South Addition), Block 331, Lease OCS-G 13631, located 78 miles from the nearest Louisiana shoreline | 7/3/2008
Chevron U.S.A., Inc., Structure Removal, SEA ES/SR 08-015A | South Marsh Island, Block 8, Lease OCS-G 03401, located 32 miles from the nearest Louisiana shoreline | 7/7/2008
Anadarko Petroleum Corporation, Structure Removal, SEA ES/SR 08-117 | West Cameron (South Addition), Block 613, Lease OCS-G 21059, located 103 miles from the nearest Louisiana shoreline | 7/7/2008
Beryl Oil & Gas, Structure Removal, SEA ES/SR 08-099 | South Timbalier, Block 195, Lease OCS-G 03593, located 38 miles from the nearest Louisiana shoreline | 7/8/2008
Union Oil Company of California, Inc., Structure Removal, SEA ES/SR 08-118 | Brazos, Block 376, Lease OCS-G 07215, located 13 miles from the nearest Texas | 7/9/2008
Chevron U.S.A., Inc., Structure Removal, SEA ES/SR 96-042A | Ship Shoal, Block 108, Lease OCS 00814, located 23 miles from the nearest Louisiana shoreline | 7/9/2008
Eni U.S. Operating Company, Inc., Structure Removal, SEA ES/SR 08-100 | West Cameron, Block 130, Lease OCS-G 12761, located 22 miles from the nearest Louisiana shoreline | 7/9/2008
Eni U.S. Operating Company, Inc., Structure Removal, SEA ES/SR 99-065C | Vermilion, Block 313, Lease OCS-G 01172, located 85 miles from the nearest Louisiana shoreline | 7/10/2008
Nexen Petroleum U.S.A., Inc., Structure Removal, SEA ES/SR 08-116 | West Delta, Block 45, Lease OCS-G 00138, located 12 miles from the nearest Louisiana shoreline | 7/14/2008
Merit Energy Company, Structure Removal, SEA ES/SR 08-094 | East Cameron, Block 254, Lease OCS-G 02039, located 74 miles from the nearest Louisiana shoreline | 7/16/2008
Energy Resource Technology GOM, Inc., Well Conductor Removal, SEA ES/SR RPM EC374-SS001 | East Cameron, Block 374, Lease OCS-G 21586, located 103 miles from the nearest Louisiana shoreline | 7/16/2008
EMGS Americas, Geological & Geophysical Exploration for Mineral Resources, SEA T08-10 | Located in the Western Planning Area of the Gulf of Mexico | 7/16/2008
WesternGeco, LLC, Geological & Geophysical Exploration for Mineral Resources, SEA T08-11 | Located in the Western Planning Area of the Gulf of Mexico | 7/16/2008
Walter Oil & Gas Corporation, Structure Removal, SEA ES/SR 08-102 | Main Pass, Block 161, Lease OCS-G 26151, located 18 miles from the nearest Louisiana shoreline | 7/16/2008
Walter Oil & Gas Corporation, Structure Removal, SEA ES/SR 08-101 | Brazos, Block 365, Lease OCS-G 09008, located 10 miles from the nearest Texas shoreline | 7/17/2008
Merit Energy Company, Structure Removal, SEA ES/SR 08-112 | High Island, Block 115, Lease OCS-G 18936, located 20 miles from the nearest Texas shoreline | 7/17/2008
Apache Corporation, Structure Removal, SEA ES/SR 08-050A | High Island, Block A6, Lease OCS-G 04734, located 34 miles from the nearest Texas shoreline | 7/17/2008
Coastal Planning & Engineering, Inc., Geological & Geophysical Exploration for Mineral Resources, SEA M08-03 | Located off the coast of Manatee & Sarasota Counties, Florida on the Federal OCS of the Gulf of Mexico | 7/17/2008
Post, Buckley, Schuh and Jernigan, Geological & Geophysical Exploration for Mineral Resources, SEA E-8-01 | Located off the coast of St. Johns County, Florida on the Federal OCS of the Atlantic | 7/18/2008
Maritech Resources, Inc., Structure Removal, SEA ES/SR 06-033B | Eugene Island, Block 365, Lease OCS-G 13628, located 76 miles from the Louisiana | 7/21/2008
W & T Offshore, Inc., Structure Removal, SEA ES/SR 08-127 | Eugene Island, Block 45, Lease OCS-G 19785, located 17 miles from the nearest Louisiana shoreline | 7/22/2008
Century Exploration New Orleans, Inc., Structure Removal, SEA ES/SR 08-125 | Ship Shoal, Block 154, Lease OCS-G 00420, located 36 miles from the nearest Louisiana shoreline | 7/22/2008
Century Exploration New Orleans, Inc., Structure Removal, SEA ES/SR 08-126 | Ship Shoal, Block 154, Lease OCS-G 00420, located 36 miles from the nearest Louisiana shoreline | 7/22/2008
Seneca Resources Corporation, Structure Removal, SEA ES/SR 08-124 | West Cameron, Block 182, Lease OCS-G 15062, located 30 miles from the nearest Louisiana shoreline | 7/22/2008
Maritech Resources, Inc., Structure Removal, SEA ES/SR 08-005 | Eugene Island, Block 305, Lease OCS-G 02108, located 58 miles from the nearest Louisiana shoreline | 7/23/2008
Maritech Resources, Inc., Structure Removal, SEA ES/SR 08-006A | Ship Shoal, Block 291, Lease OCS-G 02923, located 58 miles from the nearest Louisiana shoreline | 7/23/2008
W & T Offshore, Structure Removal, SEA ES/SR 01-050A | Eugene Island, Block 118, Lease OCS-G 15242, located 20 miles from the nearest Louisiana shoreline | 7/24/2008
TGS-NOPEC Geophysical Company, Geological & Geophysical Exploration for Mineral Resources, SEA M08-04 | Located in the central Gulf of Mexico south of Fourchon, Louisiana | 7/24/2008
GOM Shelf, LLC, Structure Removal, SEA ES/SR 07-086 | Main Pass, Block 296, Lease OCS-G 01673, located 23 miles from the nearest Louisiana shoreline | 7/24/2008
Stone Energy Corporation, Structure Removal, SEA ES/SR 08-120, 08-121, 08-122, 08-123 | South Marsh Island, Block 275, Lease OCS-G 05477, located 29 to 32 miles from the nearest Louisiana shoreline | 7/24/2008
Energy Partners, LTD, Structure Removal, SEA ES/SR 08-138 | East Cameron, Block 263, Lease OCS-G 15147, located 88 miles from the nearest Louisiana shoreline | 7/28/2008
Mariner Energy, Inc., Structure Removal, SEA ES/SR 08-131 | Matagorda Island, Block A-4, Lease OCS-G 06059, located 35 miles from the nearest Texas shoreline | 7/28/2008
Energy Partners, LTD, Structure Removal, SEA ES/SR 08-137 | East Cameron, Block 44, Lease OCS-G 19730, located 15 miles from the nearest Louisiana shoreline | 7/29/2008
Beryl Oil and Gas LP, Structure Removal, SEA ES/SR 08-098 | West Delta, Block 57, Lease OCS-G 10878, located 3 miles from the nearest Louisiana shoreline | 7/30/2008
Chevron U.S.A., Inc., Structure Removal, SEA ES/SR 08-135, 08-136 | South Timbalier, Block 51, Lease OCS-G 01240, located 11 miles from the nearest Louisiana shoreline | 8/15/2008
El Paso E&P Company, L.P., Initial Exploration Plan, SEA N-9209 | High Island, Block A-373, Lease OCS-G 25606, located 120 miles from the nearest Texas shoreline | 8/18/2008
GOM Shelf LLC, Structure Removal, SEA ES/SR 08-013 | South Pass, Block 45, Lease OCS-G 04479, located 7 miles from the nearest Louisiana shoreline | 8/19/2008
Mariner Energy, Inc., Structure Removal, SEA ES/SR 08-141 | Brazos, Block A104, Lease OCS-G 11297, located 35 miles from the nearest Texas shoreline | 8/22/2008
Apache Corporation, Structure Removal, SEA ES/SR 07-068B | Main Pass, Block 151, Lease OCS-G 02951, located 10 miles from the nearest Louisiana shoreline | 8/22/2008
Merit Energy Company, Structure Removal, SEA ES/SR 08-110 | Matagorda Island, Block 672, Lease OCS-G 10198, located 25 miles from the nearest Texas shoreline | 8/22/2008
Beryl Oil & Gas LP, Structure Removal, SEA ES/SR 08-128 | Chandeleur, Block 38, Lease OCS-G 07836, located 33 miles from the nearest Louisiana shoreline | 8/27/2008
Stone Energy Corporation, Structure Removal, SEA ES/SR 08-133 | South Marsh Island, Block 275, Lease OCS-G 05477, located 29 miles from the nearest Louisiana shoreline | 8/27/2008
Walter Oil & Gas Corporation, Structure Removal, SEA ES/SR 08-144 | Breton Sound, Block 54, Lease OCS-G 21706, located 10 miles from the nearest Louisiana shoreline | 8/28/2008
Merit Energy Company, Structure Removal, SEA ES/SR 08-114 | Matagorda Island, Block 682, Lease OCS-G 05171, located 20 miles from the nearest Texas shoreline | 9/11/2008
Chevron U.S.A., Inc., Structure Removal, SEA ES/SR 07-039B | Eugene Island, Block 231, Lease OCS-G 00980, located 39 miles from the nearest Louisiana shoreline | 9/19/2008
Prime Offshore, LLC, Structure Removal, SEA ES/SR 08-145 | North Padre Island, Block 998, Lease OCS-G 23123, located 20 miles from the nearest Texas shoreline | 9/19/2008
Eni U.S. Operating Company, Inc., Structure Removal, SEA ES/SR 08-148 | Ship Shoal (South Addition), Block 246, Lease OCS-G 01027, located 55 miles from the nearest Louisiana shoreline | 9/19/2008
Walter Oil & Gas Corporation, Structure Removal, SEA ES/SR 08-143 | Vermilion, Block 28, Lease OCS-G 21588, located 4.8 miles from the nearest Louisiana shoreline | 9/19/2008
CGG Veritas, Geological & Geophysical Prospecting for Mineral Resources, SEA L08-71 | Located in the central Gulf of Mexico south of Fourchon, Louisiana | 9/22/2008
Hunt Petroleum (AEC), Inc., Structure Removal, SEA ES/SR 08-149 | Main Pass, Block 101, Lease OCS-G 22792, located 20 miles from the nearest Louisiana shoreline | 9/26/2008
Union Oil Company of California, Structure Removal, SEA ES/SR 08-107 | Ship Shoal, Block 209, Lease OCS-G 00827, located 34 miles from the nearest Louisiana Shoreline | 9/26/2008

Persons interested in reviewing environmental documents for the proposals listed above or obtaining information about SEAs and FONSIs prepared by the Gulf of Mexico OCS Region are encouraged to contact MMS at the address or telephone listed in the FOR FURTHER INFORMATION section.

Dated: October 10, 2008.
Lars Herbst,
Regional Director, Gulf of Mexico OCS Region.

[FR Doc. E8-29535 Filed 12-12-08; 8:45 am]

BILLING CODE 4310-MR-P